DEPARTMENT OF ENERGY

Energy Information Administration

Agency information collection activities: submission for OMB review; comment request

AGENCY: Energy Information Administration (EIA), Department of Energy (DOE).

ACTION: Agency information collection activities: submission for OMB review; comment request.

SUMMARY: The EIA has submitted the energy information collections listed at the end of this notice to the Office of Management and Budget (OMB) for review and a three-year extension under section 3507(h)(1) of the Paperwork Reduction Act of 1995 (Pub. L. 104-13) (44 U.S.C. 3501 et seq.).

DATES: Comments must be filed on or before December 21, 2000. If you anticipate that you will be submitting comments but find it difficult to do so within that period, you should contact the OMB Desk Officer for DOE listed below as soon as possible.

ADDRESSES: Send comments to the OMB Desk Officer for DOE, Office of Information and Regulatory Affairs, Office of Management and Budget, 726 Jackson Place N.W., Washington, D.C. 20503. The OMB DOE Desk Officer may be telephoned at (202) 395-3084. (A copy of your comments should also be provided to EIA's Statistics and Methods Group at the address below.)

FOR FURTHER INFORMATION CONTACT: Requests for additional information should be directed to Herbert Miller, Statistics and Methods Group (EI-70), Forrestal Building, U.S. Department of Energy, Washington, DC 20585-0670. Mr. Miller may be contacted by telephone at (202) 287-1711, FAX at (202) 287-1705, or e-mail at Herbert.Miller@eia.doe.gov.

SUPPLEMENTARY INFORMATION: This section contains the following information about the energy information collection submitted to OMB for review: (1) The collection numbers and title; (2) the sponsor (i.e., the Department of Energy component); (3) the current OMB docket number (if applicable); (4) the type of request (i.e., new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Form FE-781R, Report of International Electricity Import/Export Data

2. Fossil Energy, Office of Coal and Power Import and Export Activities

3. OMB Number 1901-0296

4. Revision—Reports submitted pursuant to conditions in electricity export authorizations must be submitted either quarterly within 30 days following each calendar quarter, or annually by February 15 of each year, as required by the terms and conditions in a respondent's particular export authorization.

5. Mandatory

6. FE-781R collects electrical import/export data from entities authorized to export electric energy, to construct, connect, operate, or maintain facilities for the transmission of electric energy at an international boundary as required by 10 CFR 205.308 and 205.325. The data are also used by EIA for publications. Holders of Presidential Permits are required to report.

7. Business or other for-profit

8. 1,650 hours (Reporting quarterly = 125 respondents × 4 responses per year × 2.5 hours per response; Reporting annually = 40 × 1 response × 10 hours).

Statutory Authority: Section 3507(h)(1) of the Paperwork Reduction Act of 1995 (Pub. L. No. 104-13).

Issued in Washington, DC, November 15, 2000.
Jay H. Casselberry,
Agency Clearance Officer, Statistics and Methods Group, Energy Information Administration.

[FR Doc. 00-29736 Filed 11-20-00; 8:45 am]

BILLING CODE 6450-01-P